DEPARTMENT OF HOMELAND SECURITY

Office of the Secretary

[Docket No. DHS-2016-0048]

Privacy Act of 1974; Department of Homeland Security, U.S. Customs and Border Protection, DHS/CBP-001, Import Information System, System of Records

AGENCY: Department of Homeland Security, Privacy Office.

ACTION: Notice of Privacy Act system of records.

SUMMARY: In accordance with the Privacy Act of 1974, the Department of Homeland Security (DHS) proposes to update an existing systems of records titled, “DHS/U.S. Customs and Border Protection (CBP)-001 Import Information System (IIS) System of Records” (August 17, 2015, 80 FR 49256). This system of records will continue to permit DHS/CBP to collect and maintain records on all commercial goods imported into the United States, as well as information pertaining to the carrier, broker, importer, and other persons associated with the manifest, import, or commercial entry transactions for the goods.

DHS/CBP is updating this system of records notice to provide notice that IIS records may be stored on both DHS unclassified and classified networks to allow for analysis and vetting consistent with existing DHS/CBP authorities and purposes and this published notice. Furthermore, this notice includes non-substantive changes to simplify the formatting and text of the previously published notice.

This system of records notice was previously published in the Federal Register on August 17, 2015 (80 FR 49256). DHS/CBP previously published a Final Rule for the IIS system of records in the Federal Register on March 17, 2016 (81 FR 14369), which remains in effect. This updated system will be included in the Department of Homeland Security's inventory of record systems.

DATES: Submit comments on or before August 25, 2016. This updated system will be effective August 25, 2016.

ADDRESSES: You may submit comments, identified by docket number DHS-2016-0048 by one of the following methods:

• Federal e-Rulemaking Portal: http://www.regulations.gov. Follow the instructions for submitting comments.

• Fax: (202) 343-4010.

• Mail: Jonathan R. Cantor, Acting Chief Privacy Officer, Privacy Office, Department of Homeland Security, Washington, DC 20528-0655.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Debra L. Danisek (202) 344-1610, Acting CBP Privacy Officer, Office of the Commissioner, U.S. Customs and Border Protection, Washington, DC 20229. For privacy questions, please contact: Jonathan R. Cantor, (202) 343-1717, Acting Chief Privacy Officer, Privacy Office, Department of Homeland Security, Washington, DC 20528-0655.

SUPPLEMENTARY INFORMATION:

I. Background

In accordance with the Privacy Act of 1974, 5 U.S.C. 552a, the Department of Homeland Security (DHS), U.S. Customs and Border Protection (CBP) proposes to update an existing systems of records titled, “DHS/CBP-001 Import Information System (IIS) System of Records” (August 17, 2015, 80 FR 49256). This system of records will continue to collect and maintain records on all commercial goods imported into the United States, as well as information pertaining to the carrier, broker, importer, and other persons associated with the manifest, import, or commercial entry transactions for the goods.

DHS/CBP is updating this system of records notice (SORN) to provide notice that IIS records may be stored on both DHS unclassified and classified networks to allow for analysis and vetting consistent with existing DHS/CBP authorities and purposes and this published notice. Furthermore, this notice includes non-substantive changes to simplify the formatting and text of the previously published notice.

DHS/CBP-001 IIS, issued on August 17, 2015 (80 FR 49256), consolidated, updated, and renamed as one SORN the information previously contained in two DHS SORNs titled, “DHS/CBP-001 Automated Commercial Environment/International Trade Data System (ACE/ITDS) System of Records” (71 FR 3109, January 19, 2006) and “DHS/CBP-015 Automated Commercial System (ACS) System of Records” (73 FR 77759, December 19, 2008). The Automated Commercial System, a decades-old trade information database and information technology (IT) system, was deployed to track, control, and process all commercial goods imported into the United States. ACE, part of a multi-year modernization effort since 2001 to replace ACS, continues to be designed to manage CBP's import trade data and related transaction information. ACE/ITDS serves three sets of core stakeholders: The internal DHS/CBP users, Partner Government Agencies (PGA), and the trade community. ACE is the IT backbone for the ITDS, an interagency initiative formalized under the SAFE Port Act of 2006 to create a single window for the trade community and PGAs involved in importing and exporting. DHS/CBP has provided notice to the public and trade community that in the future, the ACS IT system will be fully phased out and replaced by ACE. DHS/CBP published the IIS system of records to identify a single repository for import trade information and allow DHS/CBP to collect and maintain records on all commercial goods imported into the United States, along with related information about persons associated with those transactions, and manifest information.

DHS/CBP is updating the system location to inform the public that certain IIS information may be replicated from the operational IT system, ACE/ITDS, and maintained on unclassified and classified systems and networks to allow for analysis and vetting consistent with existing DHS/CBP authorities and purposes and this published notice. Furthermore, this notice includes non-substantive changes to simplify the formatting and text of the previously published notice.

Consistent with DHS's information-sharing mission, information stored in the DHS/CBP-001 IIS system of records may be shared with other DHS Components that have a need to know the information to carry out their national security, law enforcement, immigration, or other homeland security functions. In addition, information may be shared with appropriate federal, state, local, tribal, territorial, foreign, or international government agencies consistent with the routine uses set forth in this SORN and as otherwise authorized under the Privacy Act.

DHS/CBP will not assert any exemptions with regard to information provided by or on behalf of an individual. However, this data may be shared with law enforcement and/or intelligence agencies pursuant to the routine uses identified in the IIS SORN and as otherwise authorized under the Privacy Act. The Privacy Act requires that DHS maintain an accounting of such disclosures. Disclosing the fact that a law enforcement and/or intelligence agency has sought particular records may interfere with or disclose techniques and procedures related to ongoing law enforcement investigations. As such, DHS has issued a Final Rule for the IIS system of records in the Federal Register on March 17, 2016 (81 FR 14369), which remains in effect. This updated system will be included in the Department of Homeland Security's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all persons when systems of records maintain information on U.S. citizens, lawful permanent residents, and non-immigrant aliens.

Below is the description of the DHS/CBP-001 Import Information System (IIS) System of Records.

In accordance with 5 U.S.C. 552a(r), DHS has provided a report of these systems of records to the Office of Management and Budget and to Congress.

System of Records:

Department of Homeland Security (DHS)/U.S. Customs and Border Protection (CBP)-001.

System name:

DHS/CBP-001 Import Information System (IIS).

Security classification:

Unclassified. The data may be retained on the classified networks but this does not change the nature and character of the data until it is combined with classified information.

System location:

DHS/CBP maintains records in the operational information technology (IT) system at the DHS/CBP Headquarters in Washington, DC and field offices. DHS/CBP also replicates records from the operational system and maintains them on other unclassified and classified systems and networks.

Categories of individuals covered by the system:

Categories of individuals in this system include members of the public involved in the importation of merchandise and international trade, such as importers, brokers, carriers, manufacturers, shippers, consignees, cartmen/lightermen, filers, sureties, facility operators, foreign trade zone operators, drivers/crew, attorneys/consultants, and agents, in addition to persons required to file Customs Declarations for international mail transactions (including sender and recipient).

Categories of records in the system:

Information maintained by ACE as part of the user account creation process includes:

• Account Information—Including Name of Company, Name of Company Officer, Title of Company Officer, Company Organization Structure, and Officer's Date of Birth (optional). For Operators, this information must match the name on the company's bond.

○ Account Owner Information—Name, Application Data, Email, Date of Birth, Country, Address, and Business Phone Number.

○ Legal Entity Information—Name, Application Data, Email, Country, Address, and Business Phone Number.

○ Point of Contact Information—Name, Application Data, Email, Country, Date of Birth, Address, and Business Phone Number.

• Business Activity Information—Depending on the account type being established, CBP requires the following identifying information to set up an ACE portal account. Users are limited to a single identification number for the portal account being requested with the exception of: Importer, broker, filer, software vendor, service bureau, port authority, preparer, or surety agent, which can use up to three identifying numbers for each portal view:

○ Importer/Broker/Filer/Surety—Importer Record Number; Filer Code; Taxpayer Identification Number (TIN) [e.g., Internal Revenue Service (IRS) Employer Identification Number (EIN)/Social Security number (SSN)]; Surety Code.

○ Service Provider—Standard Carrier Alpha Code (SCAC) or Filer Code; EIN/SSN.

○ Operator—EIN/SSN; Bond Number; Facilities Information and Resources Management System (FIRMS) Code; Zone Number; Site Number. Operators must also note whether their background investigation has been completed by CBP, and whether their fingerprints are on file with CBP.

○ Cartman/Lighterman—Cartman/Lighterman Identification Number; Customhouse License (CHL) Number; Passport Number; Country of Issuance; Date of Expiration; U.S. Visa Number; Birth Certification Number; Permanent Resident Card Number; Certificate of Naturalization; Certificate of U.S. Citizenship; Re-entry Permit Number (I-327); Refugee Permit Number; Other Identification (such as Military Dependent's Card, Temporary Resident Card, Voter Registration Card). A Cartman/Lighterman must also note whether his or her background investigation has been completed by CBP, and whether his or her fingerprints are on file with CBP.

○ Carriers—SCAC; Bond Numbers; Importer Record for Type 2 Bond (if applicable).

○ Drivers/Crew—Commercial Driver License (CDL) Number; State/Province of Issuance; Country; whether the Driver has an Enhanced CDL or is HAZMAT endorsed; Full Name; Date of Birth; Gender; Citizenship; Travel Documentation (and Country of Issuance) such as: Passport Number or Permanent Resident Card; or other type of identification including: SENTRI Card; NEXUS; ¹ U.S. Visa (non-immigrant or immigrant); Permanent Resident Card; U.S. Alien Registration Card; U.S. Passport Card; DHS Refugee Travel Document; DHS Re-Entry Permit; U.S. Military ID Document; or U.S. Merchant Mariner Document.

¹ SENTRI and NEXUS are Trusted Traveler Cards used for expedited border crossing along the southern and northern borders, respectively. See, http://www.cbp.gov/travel/trusted-traveler-programs.

Information maintained by ACE as part of the trade facilitation process includes:

• Filer Information

○ Importer of Record Name and Address—The name and address, including the standard postal two-letter state or territory abbreviation, of the importer of record. The importer of record is defined as the owner or purchaser of the goods, or when designated by the owner, purchaser, or consignee, a licensed customs broker. The importer of record is the individual or firm liable for payment of all duties and meeting all statutory and regulatory requirements incurred as a result of importation, as described in 19 CFR. sec. 141.1(b).

○ Consignee Number—IRS EIN, SSN, or CBP-assigned number of the consignee. This number must reflect a valid identification number filed with CBP via the CBP Form 5106 or its electronic equivalent.

○ Importer Number—The IRS EIN, SSN, or CBP-assigned number of the importer of record.

○ Reference Number—The IRS EIN, SSN, or CBP-assigned number of the individual or firm to whom refunds, bills, or notices of extension or suspension of liquidation are to be sent (if other than the importer of record and only when a CBP Form 4811 is on file).

○ Ultimate Consignee Name and Address—The name and address of the individual or firm purchasing the merchandise or, if a consigned shipment, to whom the merchandise is consigned.

○ Broker/Filer Information—A broker or filer name, address, and phone number.

○ Broker/Importer File Number—A broker or importer internal file or reference number.

○ Bond Agent Information—Bond agent name, SSN or a surety-created identification, and surety name.

○ Declarant Name, Title, Signature, and Date—The name, job title, and signature of the owner, purchaser, or agent who signs the declaration. The month, day, and year when the declaration was signed.

○ Importer Business Description—Including the Importer Dun & Bradstreet (DUNS) Number and the North American Industry Classification System (NAICS) number for Importer Business.

○ Senior Officers of the Importing Company—Information pertaining to Senior Officers of the Importing Company with an importing or financial role in trade transactions: Position title; Name (First, Middle, Last); Business Phone; SSN (Optional); Passport Number (Optional); Passport Country of Issuance (Optional).

○ Additional Data Elements—Filers may, on their own initiative, provide additional or clarifying information on the form provided such additional information does not interfere with the reporting of those required data elements.

• Supply Chain Information

○ Manufacturer Information:

Manufacturer (or supplier) name;

Manufacturer (or supplier) address;

Foreign manufacturer identification code and/or shipper identification code;

Foreign manufacturer name and/or shipper name; and

Foreign manufacturer address and/or shipper address.

○ Carrier Information:

Importing Carrier—For merchandise arriving in the United States by vessel, CBP records the name of the vessel that transported the merchandise from the foreign port of lading to the first U.S. port of unlading.

• Vessel Identifier Code;

• Vessel Name;

• Carrier Name;

• Carrier Address;

• Carrier codes (non-SSN) (Standard Carrier Agent Code (SCAC) for vessel carriers, International Air Transport Association (IATA) for air carriers);

• Department of Transportation (DOT) number,

• Tax Identification Number;

• DUNS;

• Organizational structure; and

• Insurance information including name of insurer, policy number, date of issuance, and amount.

• The carrier can create users and points of contact, and may also choose to store details associated with the driver and crew, conveyance, and equipment for purposes of expediting the creation of manifests.

Mode of Transport—The mode of transportation by which the imported merchandise entered the U.S. port of arrival from the last foreign country. The mode of transport may include vessel, rail, truck, air, or mail.

Export Date—The month, day, and year on which the carrier departed the last port (or airport, for merchandise exported by air) in the exporting country.

○ Liquidator identification (non-SSN);

○ Seller (full name and address or a widely accepted industry number such as a DUNS number);

○ Buyer (full name and address or a widely accepted industry number such as a DUNS number);

○ Ship to party name;

○ Consolidator (stuffer);

○ Foreign trade zone applicant identification number;

○ Country of origin;

○ Commodity Harmonized Tariff Schedule of the United States (HTSUS) number;

○ Booking party; and

○ Other identification information regarding the party to the transaction.

• Crewmember/Passenger Information

○ Carrier Information (including vessel flag and vessel name, date of arrival, and port of arrival (CBP Form 5129));

○ Person on arriving conveyance who is in charge;

○ Names of all crew members and passengers;

○ Date of birth of each crew member and passenger;

○ Commercial driver license (CDL)/driver license number for each crew member;

○ CDL state or province of issuance for each crew member;

○ CDL country of issuance for each crew member;

○ Travel document number for each crew member and passenger;

○ Travel document country of issuance for each crew member and passenger;

○ Travel document for state/province of issuance for each crew member and passenger;

○ Travel document type for each crew member and passenger;

○ Address for each crew member and passenger;

○ Gender of each crew member and passenger;

○ Nationality/citizenship of each crew member and passenger; and

○ HAZMAT endorsement for each crew member.

• Federal Employee Information (including CBP and PGA employees)

○ CBP employee names;

○ CBP employee hash identification, SSN, or other employee identification number; and

○ Federal Government employee names, work addresses, work phone numbers, and ACE identification if already an ACE-ITDS user.

• Manifest Information

○ Bill of Lading (B/L) or Air Waybill (AWB) Number—The number assigned on the manifest by the international carrier delivering the goods to the United States.

○ Immediate Transportation Number—The Immediate Transportation number obtained from the CBP Form 7512, the AWB number from the Transit Air Cargo Manifest (TACM), or Automated Manifest System (AMS) master in-bond (MIB) movement number.

○ Immediate Transportation Date—The month, day, and year obtained from the CBP Form 7512, TACM, or AMS MIB record. Note that Immediate Transportation date cannot be prior to import date.

○ Missing Documents—Codes that indicate which documents are not available at the time of filing the entry summary.

○ Foreign Port of Lading—The five digit numeric code listed in the “Schedule K” (Classification of Foreign Ports by Geographic Trade Area and Country) for the foreign port at which the merchandise was actually laden on the vessel that carried the merchandise to the United States.²

² The “Schedule K” may be retrieved at: http://www.iwr.usace.army.mil/ndc/wcsc/scheduleK/schedulek.htm.

○ U.S. Port of Unlading—The U.S. port code where the merchandise was unladen (or, delivered) from the importing vessel, aircraft, or train.

○ Location of Goods/General Order (GO) Number—Also known as a “container stuffing location,” the pier or site where the goods are available for examination. For air shipments, this is the flight number.

• CBP Generated Records

○ Entry Number—The entry number is a CBP-assigned number that is unique to each Entry Summary (CBP Form 7501).

○ Entry Type—Entry type denotes which type of entry summary is being filed (i.e., consumption, information, and warehouse). The sub-entry type further defines the specific processing type within the entry category (i.e., free and dutiable, quota/visa, anti-dumping/countervailing duty, and appraisement).³

³ Automated Broker Interface (ABI) processing requires an ABI status indicator. This indicator must be recorded in the entry type code block. It is to be shown for those entry summaries with ABI status only.

○ Summary Date—The month, day, and year on which the entry summary is filed with CBP. The record copy of the entry summary will be time stamped by the filer at the time of presentation of the entry summary. Use of this field is optional for ABI statement entries. The time stamp will serve as the entry summary date. The filer will record the proper team number designation in the upper right portion of the form above this block (three-character team number code).⁴

⁴ For ABI entry summaries, the team number is supplied by CBP's automated system in the summary processing output message.

○ Port Code—The port is where the merchandise was entered under an entry or released under an immediate delivery permit. CBP relies on the U.S. port codes from Schedule D, Customs District and Port Codes, listed in Annex C of the Harmonized Tariff Schedule (HTS).

○ Entry Date—The month, day, and year on which the goods are released, except for immediate delivery, quota goods, or when the filer requests another date prior to release.⁵ It is the responsibility of the filer to ensure that the entry date shown for entry/entry summaries is the date of presentation (i.e., the time stamp date). The entry date for a warehouse withdrawal is the date of withdrawal.

⁵ 19 CFR 141.68.

○ Manufacturer ID—This code identifies the manufacture/shipper of the merchandise by a CBP-constructed code. The manufacturer/shipper identification code is required for all entry summaries and entry/entry summaries, including informal entries, filed on the CBP Form 7501.

○ Notes—Notations and results of examinations and document review for cleared merchandise.

○ Trade violation statistics.

○ Protest and appeal decision case information.

• Surety and Bond Information

○ Surety Information—Full legal name of entity, address.

○ Surety Number—A three-digit numeric code that identifies the surety company on the Customs Bond. This code can be found in block 7 of the CBP Form 301, or is available through CBP's automated system to ABI filers, via the importer bond query transaction.

○ Bond Type—A three-digit numeric code identifying the following type of bond: U.S. Government or entry types not requiring a bond; Continuous; or Single Transaction.

○ Additional Bond Information—All authorized users of bond, bond expiration date.

• Merchandise-Specific Information

○ Line Number—A commodity from one country, covered by a line which includes a net quantity, entered value, HTS number, charges, rate of duty and tax.

○ Description of Merchandise—A description of the articles in sufficient detail (i.e., gross weight, manifest quantity, net quantity in HTS units, U.S. dollar value, all other charges, costs, and expenses incurred while bringing the merchandise from alongside the carrier at the port of exportation in the country of exportation and placing it alongside the carrier at the first U.S. port of entry).

○ License Numbers—For merchandise subject to agriculture licensing.

○ Country of Origin—The country of origin is the country of manufacture, production, or growth of any article. When merchandise is invoiced in or exported from a country other than that in which it originated, the actual country of origin shall be specified rather than the country of invoice or exportation.

○ Import Date—The month, day, and year on which the importing vessel transporting the merchandise from the foreign country arrived within the limits of the U.S. port with the intent to unlade.

○ Exporting Country—The country of which the merchandise was last part of the commerce and from which the merchandise was shipped to the United States.

Authority for maintenance of the system:

19 U.S.C. secs. 66, 1431, 1448, 1481, 1484, 1505, 1514, 1624, and 2071 note; 26 U.S.C. 6109(d); 31 U.S.C. 7701(c); sec. 203 of the Security and Accountability for Every (SAFE) Port Act of 2006 and sec. 343(a) of the Trade Act of 2002, as amended by the Maritime Transportation Security Act of 2002; title 19 of the Code of Federal Regulations, including 19 CFR 24.5, 149.3, 101.9, and 103.31(e).

Purpose(s):

This system of records allows DHS/CBP to collect and maintain records on all commercial goods imported into the United States, along with carrier, broker, importer, and other ACE-ITDS Portal user account and manifest information. The purpose of this system of records is to track, control, and process all commercial goods imported into the United States. This facilitates the flow of legitimate shipments, and assists DHS/CBP in securing U.S. borders and targeting illicit goods. The IIS covers two principle information technology systems: The Automated Commercial System (ACS) and ACE-ITDS. The Automated Commercial System employs multiple modules to receive data transmissions from a variety of parties involved in international commercial transactions and provides DHS/CBP with the capability to track both the transport transactions and the financial transactions associated with the movement of merchandise through international commerce. The ACE-ITDS modernizes and enhances trade processing with features that will consolidate and automate border processing. The ACE-ITDS serves three sets of core stakeholders: The internal DHS/CBP users, PGAs, and the trade community in the movement of merchandise through international commerce.

DHS/CBP maintains a replica of some or all of the data in the operating system on other unclassified and classified systems and networks to allow for analysis and vetting consistent with the above stated purposes and this published notice.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including Offices of the United States Attorneys, or other federal agency conducting litigation or in proceedings before any court, adjudicative, or administrative body, when it is relevant or necessary to the litigation and one of the following is a party to the litigation or has an interest in such litigation:

1. DHS or any Component thereof;

2. Any employee or former employee of DHS in his or her official capacity;

3. Any employee or former employee of DHS in his or her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To appropriate federal, state, local, tribal, or foreign governmental agencies or multilateral governmental organizations responsible for investigating or prosecuting the violations of, or for enforcing or implementing, a statute, rule, regulation, order, license, or treaty when DHS determines that the information would assist in the enforcement of civil or criminal laws.

H. To a federal, state, or local agency, or other appropriate entity or individual, or through established liaison channels to selected foreign governments, in order to provide intelligence, counterintelligence, or other information for the purposes of intelligence, counterintelligence, or antiterrorism activities authorized by U.S. law, Executive Order, or other applicable national security directive.

I. To the Department of Commerce, United States Census Bureau for statistical analysis of foreign trade data.

J. To a federal agency, pursuant to an International Trade Data System Memorandum of Understanding, consistent with the receiving agency's legal authority to collect information pertaining to and/or regulate transactions in international trade.

K. To a federal, state, local, tribal, territorial, foreign, or international agency, maintaining civil, criminal, or other relevant enforcement information or other pertinent information, which has requested information relevant or necessary to the requesting agency's hiring or retention of an individual, or issuance of a security clearance, license, contract, grant, or other benefit;

L. To a court, magistrate, or administrative tribunal in the course of presenting evidence, including disclosures to opposing counsel or witnesses in the course of civil discovery, litigation, or settlement negotiations, in response to a subpoena, or in connection with criminal law proceedings;

M. To third parties during the course of an investigation to the extent necessary to obtain information pertinent to the investigation;

N. To the Department of Justice, Offices of the United States Attorneys or a consumer reporting agency as defined by the Fair Credit Reporting Act, address or physical location information concerning the debtor, for further collection action on any delinquent debt when circumstances warrant;

O. To appropriate federal, state, local, tribal, or foreign governmental agencies or multilateral governmental organizations when DHS is aware of a need to use relevant data for purposes of testing new technology and systems designed to enhance national security or identify other violations of law;

P. To a former employee of DHS, in accordance with applicable regulations, for purposes of responding to an official inquiry by a federal, state, or local government entity or professional licensing authority; or facilitating communications with a former employee that may be necessary for personnel-related or other official purposes when the Department requires information or consultation assistance from the former employee regarding a matter within that person's former area of responsibility;

Q. To an organization or individual in either the public or private sector, either foreign or domestic, when there is a reason to believe that the recipient is or could become the target of a particular terrorist activity or conspiracy, to the extent the information is relevant to the protection of life or property;

R. To paid subscribers, in accordance with applicable regulations, for the purpose of providing access to manifest information as set forth in 19 U.S.C. 1431;

S. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

CBP may disclose, pursuant to 5 U.S.C. 552a(b)(12), to consumer reporting agencies in accordance with the provision of 15 U.S.C. 1681, et seq. or the Federal Claims Collection Act of 1966 as amended (31 U.S.C. 3701, et seq.). The purpose of this disclosure is to aid in the collection of outstanding debts owed to the Federal Government, typically, to provide an incentive for debtors to repay delinquent Federal Government debts by making these part of their credit records.

Disclosure of records is limited to the individual's name, address, EIN/SSN, and other information necessary to establish the individual's identity; the amount, status, and history of the claim; and the agency or program under which the claim arose. The disclosure will be made only after the procedural requirements of 31 U.S.C. 3711(e) have been followed.

Policies and practices for storing, retrieving, accessing, retaining, and disposing of records in the system:

Storage:

DHS/CBP stores records in this system, as well as on other unclassified and classified systems and networks, electronically, or on paper in secure facilities in a locked drawer behind a locked door. The records may be stored on magnetic disc, tape, digital media, and CD-ROM.

Retrievability:

DHS/CBP retrieves records by file identification codes, name, or other personal identifier.

Safeguards:

DHS/CBP safeguards records in this system in accordance with applicable rules and policies, including all applicable DHS automated systems security and access policies. DHS/CBP imposes strict controls to minimize the risk of compromising the information that is being stored. Access to the computer system containing the records in this system is limited to those individuals who have a need to know the information for the performance of their official duties and who have appropriate clearances or permissions. The systems maintain a real-time auditing function of individuals who access them. Additional safeguards may vary by Component and program.

Retention and disposal:

The Importer Security Filing form is retained for fifteen years from date of submission unless it becomes linked to law enforcement action. All other import records contained within IIS are maintained for a period of six years from the date of entry.

Some records are retained online in a system database, while others may be retained in hard copy in ports of entry, as appropriate. Personally identifiable information collected in IIS as part of the regulation of incoming cargo will be retained in accordance with the U.S. Customs Records Schedules approved by the National Archive and Records Administration for the forms on which the data is submitted. This means that cargo, crew, driver, and passenger information collected from a manifest presented in connection with the arrival of a vessel, vehicle, or aircraft will be retained for six years.

Information collected in connection with the submission of a Postal Declaration for a mail importation will be retained for a maximum of six years and three months (as set forth pursuant to NARA Authority N1-36-86-1, U.S. Customs Records Schedule, Schedule 9 Entry Processing, Items 4 and 5).

Records replicated on other DHS or CBP unclassified and classified systems and networks will follow the same retention schedule.

System Manager and address:

Director, Integrated Logistic Support, Cargo Systems Program Office, Office of Information Technology, U.S. Customs and Border Protection, 1801 North Beauregard Street, Alexandria, Virginia 22311.

Notification procedure:

ACE-ITDS portal users may log in to ACE-ITDS to change their profile information and make permissible amendments or corrections to their records. Individuals seeking notification of and access to any record contained in this system of records, or seeking to contest its content, may submit a request in writing to the DHS/CBP Freedom of Information Act (FOIA) Officer, whose contact information can be found at http://www.dhs.gov/foia under “Contacts.” If an individual believes more than one Component maintains Privacy Act records concerning him or her, the individual may submit the request to the Chief Privacy Officer and Chief FOIA Officer, Department of Homeland Security, 245 Murray Drive SW., Building 410, STOP-0655, Washington, DC 20528.

An individual seeking records about him or herself from this system of records or any other Departmental system of records, must submit a request that conforms with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. Although no specific form is required, you may obtain forms for this purpose from the Chief Privacy Officer and Chief FOIA Officer, http://www.dhs.gov/foia or 1-866-431-0486. In addition, you should:

• Explain why you believe the Department would have information on you;

• Identify which Component(s) of the Department you believe may have the information about you;

• Specify when you believe the records would have been created; and

• Provide any other information that will help the FOIA staff determine which DHS Component agency may have responsive records; and

If your request is seeking records pertaining to another living individual, you must include a statement from that individual certifying his or her agreement for you to access his or her records.

Without the above information, the Component(s) may not be able to conduct an effective search, and your request may be denied due to lack of specificity or lack of compliance with applicable regulations.

In processing Privacy Act requests for related to information in this system, CBP will review the records in the operational system, and coordinate review of records that were replicated on other unclassified and classified systems and networks.

Record access procedures:

See “Notification procedure” above.

Contesting record procedures:

See “Notification procedure” above.

Record source categories:

DHS/CBP collects information from authorized DHS/CBP or other Federal agency forms, related documents, or electronic submissions from individuals and/or companies incidental to the conduct of foreign trade and required to administer the transportation and trade laws and regulations of the United States.

Exemptions claimed for the system:

DHS/CBP will not assert any exemptions with regard to information provided by or on behalf of an individual, when requested by or on behalf of the data subject. However, this data may be shared with law enforcement and/or intelligence agencies pursuant to the routine uses identified in the IIS SORN. The Privacy Act requires DHS to maintain an accounting of such disclosures made pursuant to all routine uses. Disclosing the fact that a law enforcement and/or intelligence agency has sought particular records may affect ongoing law enforcement activity. As such, DHS will claim exemption pursuant to 5 U.S.C. 552a(j)(2) from secs. (c)(3), (e)(8), and (g)(1) of the Privacy Act, and pursuant to 5 U.S.C. 552a(k)(2) from sec. (c)(3) of the Privacy Act, from providing an individual the accounting of disclosures, as necessary and appropriate to protect this information.

Dated: July 20, 2016.
Jonathan R. Cantor,
Acting Chief Privacy Officer, Department of Homeland Security.

[FR Doc. 2016-17596 Filed 7-25-16; 8:45 am]

BILLING CODE 9111-14-P